DEPARTMENT OF THE INTERIOR

Bureau of Indian Affairs

Advisory Board for Exceptional Children

AGENCY: Bureau of Indian Affairs, Interior.

ACTION: Notice of meeting.

SUMMARY: In accordance with the Federal Advisory Committee Act, 5 U.S.C., App. 2, the Bureau of Indian Affairs announces a meeting of the Advisory Board for Exceptional Children in Bloomington, Minnesota, to discuss the impact of Public Law 105-17, the Individuals with Disabilities Education Act Amendments of 1997, on Indian children with disabilities.

DATES: The meeting will be held on Friday, June 9, 2000 beginning 9:00 a.m. to 4:00 p.m. and Saturday, June 10, 2000 beginning 9:00 a.m. and ending at 12:00 noon CST.

ADDRESSES: The meeting will be held at the DAYS INN, 1901 Killebrew Drive, Bloomington, Minnesota 55425. Telephone (612) 854-8400; Fax (612) 854-3615.

Written statements may be submitted to Mr. William A. Mehojah, Director, Office of Indian Education Programs, Bureau of Indian Affairs, 1849 C Street, NW, MS-3512, Washington, D.C. 20240; Telephone (202) 208-6123; Fax (202) 208-3312.

FOR FURTHER INFORMATION CONTACT: Dr. Angelita Felix, Lead Education Specialist, Division of School Program Support and Improvement, (505) 346-7529.

SUPPLEMENTARY INFORMATION: The purpose of the Board is to provide advice to the Secretary of the Interior, through the Assistant Secretary-Indian Affairs, on the needs of Indian children with disabilities, as mandated by the Individuals with Disabilities Education Act Amendments of 1997, Public Law 105-17, June 4, 1997.

The agenda for this meeting will cover funding allocations, newly established Division of School Program Support and Improvement, Office of Special Education Program Monitoring Report, Draft Improvement Plan, Parental Forums and the BIA's draft Eligibility document.

The meeting will be open to the public without advanced registration. Public attendance may be limited to the space available. Members of the public may make statements during the meeting, to the extent time permits, and file written statements with the Board for its consideration. Written statements should be submitted to the address listed in the ADDRESSES section. Summaries of Board meeting may be requested from the Division of School Program Support and Improvement.

The Board will prepare and submit an annual report to the Secretary of the Interior and the Congress containing a description of the activities of the Board for the preceding year.

The next Board meeting will be held on or about December 14, 2000. Regional Parents Forum will be scheduled throughout the year. Location, date and time may be obtained from the Division of School Program Support and Improvement, telephone (505) 248-7529 or 7527; Fax (505) 248-7546.

Dated: May 22, 2000.
Kevin Gover,
Assistant Secretary—Indian Affairs.

[FR Doc. 00-13537 Filed 5-30-00; 8:45 am]

BILLING CODE 4310-02-P